DEPARTMENT OF DEFENSE

Department of the Navy

32 CFR Part 706

[Docket ID: USN-2018-HQ-0011]

RIN 0703-AB03

Certifications and Exemptions Under the International Regulations for Preventing Collisions at Sea, 1972

AGENCY: Department of the Navy, Department of Defense.

ACTION: Final rule.

SUMMARY: This final rule removes Department of the Navy regulations governing Certification and Exemptions under the International Regulations for Preventing Collisions at Sea, 1972. The certification and exemption of certain naval vessels which cannot comply fully with the International Regulations for Preventing Collisions at Sea, 1972, is governed by statute and executive order which direct that notice of certification of alternate compliance be published in the Federal Register. The content of this part imposes no burden on the public, and the rule is not required. Notice will continue to be provided the public through the publication of notice documents in the Federal Register. Therefore, this rule can be removed from the CFR.

DATES: This rule is effective on January 31, 2019.

FOR FURTHER INFORMATION CONTACT: LCDR Bradley Davis at 202-685-5040.

SUPPLEMENTARY INFORMATION: 33 U.S.C. 1605 and Executive Order 11964 of January 19, 1977, direct the Department of the Navy to provide public notice in the Federal Register of U.S. Navy vessels which cannot comply fully with the International Regulations for Preventing Collisions at Sea, 1972. It has been determined that publication of this CFR part removal for public comment is impracticable, unnecessary, and contrary to public interest since statutorily required notice will be accomplished through publication of notice documents in the Federal Register.

Removal of this part does not add or reduce the burden or cost on the public in any way. The cost of certifying alternate compliance of U.S. Navy vessels and notifying the public of such certification will remain the same with removal of the part.

This rule is not significant under Executive Order (E.O.) 12866, “Regulatory Planning and Review,” therefore, E.O. 13771, “Reducing Regulation and Controlling Regulatory Costs” does not apply.

List of Subjects in 32 CFR Part 706

Marine Safety; Navigation (water).

PART 706—[REMOVED]

Accordingly, by the authority of 5 U.S.C. 301, 32 CFR part 706 is removed.

Dated: January 28, 2019.
M.S. Werner,
Commander, Judge Advocate General's Corps, U.S. Navy, Federal Register Liaison Officer.

[FR Doc. 2019-00412 Filed 1-30-19; 8:45 am]

BILLING CODE 3810-FF-P